DEPARTMENT OF COMMERCE

International Trade Administration

[A-357-812]

Honey From Argentina: Notice of Partial Rescission of Antidumping Duty Administrative Review

AGENCY: Import Administration, International Trade Administration, Department of Commerce.

ACTION: Notice of partial rescission of antidumping duty administrative review.

SUMMARY: On January 22, 2003, the Department of Commerce (the Department) published in the Federal Register (68 FR 3009) a notice announcing the initiation of the administrative review of the antidumping duty order on honey from Argentina. The period of review (POR) is May 11, 2001, to November 30, 2002. This review has now been partially rescinded with respect to Compania Apicola Argentina S.A. (CAA) and Mielar S.A. (Mielar) because all parties requesting the review withdrew their request.

EFFECTIVE DATE: May 13, 2003.

FOR FURTHER INFORMATION CONTACT: Phyllis Hall or Donna Kinsella, Enforcement Group III, Office 8, Import Administration, International Trade Administration, U.S. Department of Commerce, 14th Street and Constitution Avenue, NW., Room 7866, Washington, DC 20230; telephone (202) 482-1398 or (202) 482-0194, respectively.

Scope of the Review

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under subheadings 0409.00.00, 1702.90.90, and 2106.90.99 of the Harmonized Tariff Schedule of the United States (HTSUS). Although the HTSUS subheadings are provided for convenience and Customs (as of March 1, 2003, renamed the U.S. Bureau of Customs and Border Protection) purposes, the Department's written description of the merchandise under this order is dispositive.

Background

On December 30, 2002, CAA and Mielar requested an administrative review of the antidumping duty order (See Notice of Antidumping Duty Order: Honey from Argentina, 66 FR 63672 (December 10, 2001)) on honey from Argentina in response to the Department's notice of opportunity to request a review published in the Federal Register. On December 31, 2002, the American Honey Producers Association and the Sioux Honey Association (collectively petitioners) requested an administrative review of Mielar S.A. On January 22, 2003, the Department initiated the review. See Initiation of Antidumping and Countervailing Duty Administrative Reviews and Requests for Revocation in Part, 68 FR 3009 (January 22, 2003).

On March 18, 2003, CAA submitted a withdrawal of request for review stating that it did not have any sales that entered into the United States during the POR. On March 26, 2003, Mielar submitted a letter of withdrawal from the proceeding citing lack of experience since Mielar was not represented by legal counsel. On April 4, 2003, Mielar obtained legal counsel and requested that its request for review be reinstated as it was not aware of the possible consequences of its withdrawal at the time of the March 26, 2003, letter. On April 15, 2003, petitioners submitted a withdrawal of their request for review of Mielar. On April 15, 2003, Mielar submitted a withdrawal of its request for review. The applicable regulation, 19 CFR 351.213(d)(1), states that if a party that requested an administrative review withdraws the request within 90 days of the publication of the notice of initiation of the requested review, the Secretary will rescind the review. Respondents and petitioners withdrew their requests for review within the 90-day deadline, in accordance with 19 CFR 351.213(d)(1). As a result, we have accepted the withdrawal requests. Therefore, we are rescinding this review of CAA and Mielar of the antidumping duty order on honey from Argentina covering the period May 11, 2001, through November 30, 2002.

This notice is issued and published in accordance with sections 751 and 777(i) of the Act and 19 CFR 351.213(d)(4) of the Department's regulations.

Dated: May 6, 2003.
Joseph A. Spetrini,
Acting Assistant Secretary for Import Administration.

[FR Doc. 03-11903 Filed 5-12-03; 8:45 am]

BILLING CODE 3510-DS-P